DEPARTMENT OF EDUCATION

Applications for New Awards; Child Care Access Means Parents in School Program

AGENCY: Office of Postsecondary Education, Department of Education.

ACTION: Notice.

SUMMARY: The U.S. Department of Education (Department) is issuing a notice inviting applications for new awards for fiscal year (FY) 2021 for the Child Care Access Means Parents in School (CCAMPIS) Program, Assistance Listing Number 84.335A. This notice relates to the approved information collection under OMB control number 1840-0737.

DATES:

Applications Available: March 3, 2021.

Deadline for Transmittal of Applications: June 1, 2021.

Deadline for Intergovernmental Review: August 2, 2021.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Tanisha Hamblin-Johnson, Ed.D., U.S. Department of Education, 400 Maryland Avenue SW, Room 2C145, Washington, DC 20202-4260. Telephone: (202) 453-6090. Email: tanisha.johnson@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The CCAMPIS Program supports the participation of low-income parents in postsecondary education through the provision of campus-based child care services.

Priorities: This notice contains two absolute priorities and three invitational priorities. In accordance with 34 CFR 75.105(b)(2)(iv), the absolute priorities are from section 419N(d) of the Higher Education Act of 1965, as amended (HEA), 20 U.S.C. 1070e(d).

Absolute Priorities: For FY 2021, and any subsequent year in which we make awards from the list of unfunded applications from this competition, these priorities are absolute priorities. Under 34 CFR 75.105(c)(3), we consider only applications that meet both priorities. These priorities are:

Absolute Priority 1: Projects that are designed to leverage significant local or institutional resources, including in-kind contributions, to support the activities assisted under section 419N of the HEA.

Absolute Priority 2: Projects that are designed to utilize a sliding fee scale for child care services provided under section 419N of the HEA in order to support a high number of low-income parents pursuing postsecondary education at the institution.

Invitational Priorities: For FY 2021, and any subsequent year in which we make awards from the list of unfunded applications from this competition, these priorities are invitational priorities. Under 34 CFR 75.105(c)(1) we do not give an application that meets these invitational priorities a competitive or absolute preference over other applications.

These priorities are:

Invitational Priority 1: Supporting Students Who Are Single Parents

Background: According to the Institute for Women's Policy Research (IWPR), there are nearly 2.1 million single mothers in college today, many of whom are women of color.¹ These mothers face nearly insurmountable odds against finishing their degrees, even as many of them are pursuing higher education in order to lift their families out of poverty. Only eight percent of single mothers who start college earn an associate or bachelor's degree within six years, compared with about half of women who are not mothers.

¹ Institute for Women's Policy Research (IWPR) analysis of data from the U.S. Department of Education (September 2017), National Center for Education Statistics. National Postsecondary Student Aid Study and the Integrated Postsecondary Aid Survey (IPEDS). Retrieved from https://iwpr.org/iwpr-issues/student-parent-success-initiative/single-mothers-in-college-growing-enrollment-financial-challenges-and-the-benefits-of-attainment/.

The IWPR research also finds that supports, such as free child care, financial assistance, and social skills training, would allow more student parents to graduate. According to the IWPR, offering free child care to a single mother pursuing a bachelor's degree improves success rates for community college students. Free child care may allow many student parents to finish school much quicker, meaning they would require fewer years of support and likely spend more years earning higher wages. Studies show that students who utilize a campus child care center had more than triple the rate of on-time completion than that of parents who did not use the center.²

² Stewart, P. (2018). Campus Child Care Critical in Raising Single Mothers' Graduation Rates. Diverse. https://diverseeducation.com/article/117704/.

Priority:

Projects that propose to serve children of student-parents residing in a single parent home. An applicant should describe in its application how it will provide resources with institutional funds, in addition to child care assistance provided by CCAMPIS funds, that will enhance the student-parents' educational, personal, and financial growth.

Invitational Priority 2: Addressing Child Care Shortages Due to COVID

Background: Researchers from the Community College Research Center at Teachers College of Columbia University analyzed data collected on a bi-weekly basis from the U.S. Census Bureau. The data were collected from August to mid-October 2020 to determine the impact the pandemic has had on college enrollment. The survey revealed that the pandemic has had a strong negative influence on community college enrollment. According to the authors of the survey, “as of October 2020, more than 40% of households report that a prospective student is cancelling all plans for community college; another 15% are either taking fewer classes or switching programs.” ³ Another author writing on this topic notes that “community college students are cancelling their plans at more than twice the rate of four-year college students.” ⁴

³ Belfield, C., and Brock, T. Behind the Enrollment Numbers: How COVID Has Changed Students' Plans for Community College. CCRC, November 19, 2020. Retrieved February 8, 2021. https://ccrc.tc.columbia.edu/easyblog/covid-enrollment-community-college-plans.html.

⁴ St. Amour, M. Analysis: Low-income Community College Students Most Likely to Report Canceling College Plans. Inside Higher Ed. December 10, 2020. Retrieved February 8, 2021. https://www.insidehighered.com/news/2020/12/10/analysis-low-income-community-college-students-most-likely-report-canceling-college.

Students list the Novel Coronavirus as being the main reason for cancelling their college enrollment plans. The numbers of college enrollment cancellations are largest in those demographic groups that have been impacted by the virus the hardest: Black and Latinx students and low-income households.⁵ These groups are the same groups disproportionately served by community colleges.

⁵ Belfield, C., and Brock, T. Behind the Enrollment Numbers: How COVID Has Changed Students' Plans for Community College. CCRC. November 19, 2020. Retrieved February 8, 2021. https://ccrc.tc.columbia.edu/easyblog/covid-enrollment-community-college-plans.html.

Another finding suggests that income security is a major contributing factor to who cancels their community college plans. Studies show that low-income households, specifically those led by a single parent, exit community college at a higher rate.⁶ This is likely attributable to job loss, reduction of hours, and the need to take care of children now attending school in a virtual environment. As the impact of the virus is felt by everyone, regardless of socioeconomic background, the number of persons needing child care has grown exponentially. While the need for, and new restrictions on, child care centers have grown, the slots and space available for child care has decreased, creating child care deserts in communities hardest hit by the virus.⁷

⁶ St. Amour, M. Analysis: Low-income Community College Students Most Likely to Report Canceling College Plans. Inside Higher Ed. December 10, 2020. Retrieved February 8, 2021. https://www.insidehighered.com/news/2020/12/10/analysis-low-income-community-college-students-most-likely-report-canceling-college.

⁷ Malik, R., and Hamm, K. Mapping America's Child Care Deserts. Center for American Progress. August 30, 2017. Retrieved February 8, 2021. https://www.americanprogress.org/issues/early-childhood/reports/2017/08/30/437988/mapping-americas-child-care-deserts/.

The Center for American Progress defines “child care deserts” as areas with little or no access to quality child care or a ZIP code with more than three children for every licensed child care center slot.⁸ Without viable child care options, student parents in child care deserts—the areas most impacted by the Novel Coronavirus—will continue to face significant challenges in re-enrolling in community colleges.

⁸ Malik, R., and Hamm, K. Mapping America's Child Care Deserts. Center for American Progress. August 30, 2017. Retrieved February 8, 2021. https://www.americanprogress.org/issues/early-childhood/reports/2017/08/30/437988/mapping-americas-child-care-deserts/.

Priority:

Projects that propose to increase the number of licensed, quality child care centers in areas most impacted by the Novel Coronavirus where under-resourced community colleges are located, by, for example, utilizing unused classrooms on campus, working with community partners to create space in neighboring buildings, and hiring and training child care staff.

Invitational Priority 3: Providing Wrap-Around Services for Low-Income Parents in Postsecondary Education

Background: One educational barrier that reduces a student's opportunity to enter, persist, and complete higher education is poverty. Students from low-income backgrounds are more likely to delay enrollment, enroll in college in a part-time status, or drop out. And while large numbers of under-resourced students are attending college,⁹ many colleges and universities continue to struggle to address the total need of the under-resourced college student. Financial aid supports, like Pell Grants, provide important resources for under-resourced students to access college, but additional supports are needed to ensure students persist and complete. Studies in New York and Ohio, for example, show that comprehensive supports designed to help community college students stay enrolled and graduate have doubled three-year graduation rates for those students.¹⁰

⁹ U.S. Department of Education/Federal Student Aid. (2020). 2018-2019 Award Year Grant Volume by School. https://studentaid.gov/sites/default/files/fsawg/datacenter/library/grants-ay18-19-q4.xls.

¹⁰ CUNY ASAP Doubles Graduation Rates in New York and Ohio. MDRC. February 2021. Retrieved February 23, 2021. https://www.mdrc.org/publication/cuny-asap-doubles-graduation-rates-new-york-city-and-ohio.

Priority:

Projects that propose to develop high-impact community engagement strategies and partner with community organizations in order to leverage institutional and community resources to provide wrap-around services (such as public benefits and additional financial aid to cover textbook costs, transportation costs, mental health services, faculty mentoring, tutoring, peer support groups, and emergency grants) that meet the whole need of low-income parents in postsecondary education.

Application Requirements: For FY 2021 and any subsequent year in which we make awards from the list of unfunded applications from this competition, applicants must meet the following application requirements from section 419N of the HEA.

(a) An institution of higher education desiring a grant under this competition must submit an application that—

(1) Demonstrates that the institution is an eligible institution;

(2) Specifies the amount of funds requested;

(3) Demonstrates the need of low-income students (as defined in this notice) at the institution for campus-based child care services by including in the application—

(i) Information regarding student demographics;

(ii) An assessment of child care capacity on or near campus;

(iii) Information regarding the existence of waiting lists for existing child care;

(iv) Information regarding additional needs created by concentrations of poverty or by geographic isolation; and

(v) Other relevant data;

(4) Contains a description of the activities to be assisted, including whether the grant funds will support an existing child care program or a new child care program;

(5) Identifies the resources, including technical expertise and financial support, the institution will draw upon to support the child care program and the participation of low-income students in the program, such as accessing social services funding, using student activity fees to help pay the costs of child care, using resources obtained by meeting the needs of parents who are not low-income students, and accessing foundation, corporate, or other institutional support, and demonstrate that the use of the resources will not result in increases in student tuition;

(6) Contains an assurance that the institution will meet the child care needs of low-income students through the provision of services, or through a contract for the provision of services;

(7) Describes the extent to which the child care program will coordinate with the institution's early childhood education curriculum, to the extent the curriculum is available, to meet the needs of the students in the early childhood education program at the institution, and the needs of the parents and children participating in the child care program assisted under the applicant's project;

(8) In the case of an institution seeking assistance for a new child care program—

(i) Provides a timeline, covering the period from receipt of the grant through the provision of the child care services, delineating the specific steps the institution will take to achieve the goal of providing low-income students with child care services;

(ii) Specifies any measures the institution will take to assist low-income students with child care during the period before the institution provides child care services; and

(iii) Includes a plan for identifying resources needed for the child care services, including space in which to provide child care services, and technical assistance, if necessary;

(9) Contains an assurance that any child care facility assisted under this section will meet the applicable State or local government licensing, certification, approval, or registration requirements; and

(10) Contains a plan for any child care facility assisted under this program to become accredited within three years of the date the institution first receives assistance under this program.

Definitions: The definition of “low-income student” and “early childhood education program” are from sections 419N and 103 (20 U.S.C. 1003) of the HEA, respectively.

Early childhood education program means—

(1) A Head Start program or an Early Head Start program carried out under the Head Start Act (42 U.S.C. 9831 et seq.), including a migrant or seasonal Head Start program, an Indian Head Start program, or a Head Start program or an Early Head Start program that also receives State funding;

(2) A State licensed or regulated child care program; or

(3) A program that—

(i) Serves children from birth through age six that addresses the children's cognitive (including language, early literacy, and early mathematics), social, emotional, and physical development; and

(ii) Is—

(I) A State prekindergarten program;

(II) A program authorized under section 619 (20 U.S.C. 1419) or part C of the Individuals with Disabilities Education Act (20 U.S.C. 1431 et seq.); or

(III) A program operated by a local educational agency.

Low-income student means a student—

(1) Who is eligible to receive a Federal Pell Grant for the award year for which the determination is made; or

(2) Who would otherwise be eligible to receive a Federal Pell Grant for the award year for which the determination is made, except that the student fails to meet the requirements of—

(i) 20 U.S.C. 1070a(c)(1) because the student is enrolled in a graduate or first professional course of study; or

(ii) 20 U.S.C. 1091(a)(5) because the student is in the United States for a temporary purpose.

Program Authority: 20 U.S.C. 1070e.

Note: Projects will be awarded and must be operated in a manner consistent with the nondiscrimination requirements contained Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: Because there are no program-specific regulations for the CCAMPIS Program, applicants are encouraged to carefully read the authorizing statute: Title IV, part A, subpart 7, section 419N of the HEA (20 U.S.C. 1070e).

II. Award Information

Type of Award: Discretionary grants.

Estimated Available Funds: $43,500,000.

Contingent upon the availability of funds and the quality of applications, we may make additional awards in subsequent years from the list of unfunded applications from this competition.

Estimated Range of Awards: $30,000 to $443,492.

Estimated Average Size of Awards: $167,116.

Maximum Award: In accordance with section 419N(b)(2)(A) of the HEA, the maximum annual amount an applicant may receive under this program is one percent of the total amount of all Federal Pell Grant funds awarded to students enrolled at the institution for FY 2020. In the event that an applicant's maximum award amount is lower than the statutory minimum award of $30,000, the grant will be $30,000 for a single budget period of 12 months.

Estimated Number of Awards: 275.

Note: The Department is not bound by any estimates in this notice.

Project Period: Up to 48 months.

III. Eligibility Information

1. Eligible Applicants: Institutions of higher education that awarded a total of $250,000 or more of Federal Pell Grant funds during FY 2020 to students enrolled at the institution.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Intergovernmental Review: This program is subject to Executive Order 12372 and the regulations in 34 CFR part 79. Information about Intergovernmental Review of Federal Programs under Executive Order 12372 is in the application package for this program.

3. Funding Restrictions: Funding restrictions are outlined in section 419N(b)(2)(B) of the HEA. We reference regulations outlining funding restrictions in the Applicable Regulations section of this notice.

4. Recommended Page Limit: The application narrative is where you, the applicant, address the selection criteria that reviewers use to evaluate your application. We recommend that you (1) limit the application narrative, which includes the budget narrative, to no more than 50 pages and (2) use the following standards:

• A “page” is 8.5” × 11”, on one side only, with 1” margins.

• Double space all text in the application narrative, and single-space titles, headings, footnotes, quotations, references, and captions, as well as all text in charts, tables, figures, and graphs.

• Use a 12-point font.

• Use an easily readable font such as Times New Roman, Courier, Courier New, or Arial.

The recommended 50-page limit does not apply to the Application for Federal Assistance cover sheet (SF 424); the Budget Information Summary form (ED Form 524); the CCAMPIS Program Profile form and the one-page Project Abstract form; or the assurances and certifications. The recommended page limit also does not apply to a table of contents, which you should include in the application narrative. You must include your complete response to the selection criteria in the application narrative.

We recommend that any application addressing the invitational priorities include no more than three additional pages for each priority.

V. Application Review Information

1. Selection Criteria: The selection criteria for this competition are from section 419N of the HEA and 34 CFR 75.210 and are listed below.

We will award up to 100 points to an application under the selection criteria. The maximum number of points available for each criterion is indicated in parentheses.

(a) Need for the project. (24 points)

In determining the need for the proposed project, the Secretary considers the extent to which the applicant demonstrates, in its application, the need for campus-based child care services for low-income students, by including the following (see section 419N(c)(3) of the HEA):

(i) Information regarding student demographics.

(ii) An assessment of child care capacity on or near campus, including information regarding the existence of waiting lists for existing child care.

(iii) Information regarding additional needs created by concentrations of poverty or by geographic isolation.

(iv) Other relevant data.

(b) Quality of project design. (36 points)

In determining the quality of the design of the proposed project, the Secretary considers the following:

(i) The extent to which the applicant describes in its application the activities to be assisted, including whether the grant funds will support an existing child care program or a new child care program (see section 419N(c)(4) of the HEA).

(ii) The extent to which the services to be provided by the proposed project are focused on those with greatest needs (see 34 CFR 75.210(d)(3)(xi)).

Note: When describing how the project is focused on those with greatest needs, applicants are encouraged to include, in their assessment of focus on service of those with the greatest needs, the extent to which services are available during all hours that classes are in session, including evenings and weekends, to part-time students, and to students who need only emergency drop-in child care in the event that regularly scheduled child care is unexpectedly unavailable.

(iii) The likely impact of the services to be provided by the proposed project on the intended recipients of those services (see 34 CFR 75.210(d)(3)(iv)).

(iv) The extent to which the application includes an assurance that the institution will meet the child care needs of low-income students through the provision of services, or through a contract for the provision of services (see section 419N(c)(6) of the HEA).

(v) The extent to which the child care program will coordinate with the institution's early childhood education curriculum, to the extent the curriculum is available, to meet the needs of the students in the early childhood education program at the institution, and the needs of the parents and children participating in the child care program assisted under this section (see section 419N(c)(7) of the HEA).

(vi) The extent to which the proposed project encourages parental involvement (see 34 CFR 75.210(c)(2)(xix)).

(vii) If the applicant is seeking assistance for a new child care program (see section 419N(c)(8) of the HEA).

(1) The extent to which the applicant's timeline, covering the period from receipt of the grant through the provision of the child care services, delineates the specific steps the institution will take to achieve the goal of providing low-income students with child care services;

(2) The extent to which the applicant specifies any measures the institution will take to assist low-income students with child care during the period before the institution provides child care services; and

(3) The extent to which the application includes a plan for identifying resources needed for the child care services, including space in which to provide child care services and technical assistance if necessary.

Note: The maximum available points for this selection criterion will be divided equally, for applications that seek assistance to support existing programs, among factors (i)-(vi), and, for applications that seek assistance to support new programs, among factors (i)-(vii).

(c) Quality of management plan. (21 points)

In determining the quality of the management plan for the proposed project, the Secretary considers the following:

(i) The extent to which the application identifies the resources, including technical expertise and financial support, the institution will draw upon to support the child care program and the participation of low-income students in the program, such as accessing social services funding, using student activity fees to help pay the costs of child care, using resources obtained by meeting the needs of parents who are not low-income students, and accessing foundation, corporate or other institutional support, and demonstrates that the use of the resources will not result in increases in student tuition (see section 419N(c)(5) of the HEA).

(ii) The qualifications, including relevant training and experience, of key project personnel (see 34 CFR 75.210(e)(3)(ii)).

(iii) The adequacy of the management plan to achieve the objectives of the proposed project on time and within budget, including clearly defined responsibilities, timelines, and milestones for accomplishing project tasks (see 34 CFR 75.210(g)(2)(i)).

(d) Quality of project evaluation. (12 points)

In determining the quality of the project evaluation, the Secretary considers the following:

(i) The extent to which the methods of evaluation are thorough, feasible, and appropriate to the goals, objectives, and outcomes of the proposed project (see 34 CFR 75.210(h)(2)(i)).

(ii) The extent to which the methods of evaluation include the use of objective performance measures that are clearly related to the intended outcomes of the project and will produce quantitative and qualitative data to the extent possible (see 34 CFR 75.210(h)(2)(iv)).

(iii) The extent to which the methods of evaluation will provide performance feedback and permit periodic assessment of progress toward achieving intended outcomes (see 34 CFR 75.210(h)(2)(vi)).

(e) Adequacy of resources. (7 points)

In determining the adequacy of resources for the proposed project, the Secretary considers the following:

(i) The extent to which the budget is adequate to support the proposed project (see 34 CFR 75.210(f)(2)(iii)).

(ii) The extent to which the costs are reasonable in relation to the number of persons to be served and to the anticipated results and benefits (see 34 CFR 75.210(f)(2)(v)).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

For this competition, a panel of non-Federal readers will review each application in accordance with the selection criteria. The individual scores of the reviewers will be added and the sum divided by the number of reviewers to determine the peer review score received in the review process.

If there are insufficient funds for all applications with the same total scores, the Secretary will choose among the tied applications so as to serve geographical areas that have been underserved by the CCAMPIS Program.

3. Risk Assessment and Specific Conditions: Consistent with 2 CFR 200.206, before awarding grants under this competition the Department conducts a review of the risks posed by applicants. Under 2 CFR 200.208, the Secretary may impose specific conditions and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115—232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: The success of the CCAMPIS Program will be measured by the postsecondary persistence and degree completion rates of the CCAMPIS Program participants. All CCAMPIS Program grantees will be required to submit an annual performance report documenting the persistence and degree attainment of their participants. Although students may choose to use child care services at different points in their college enrollment, the goal is to measure the outcomes of student-parents based on their completion of their program within 150 percent or 200 percent of the published program length. The cohort model of evaluation will track the level of utilization by a student-parent throughout their enrollment at the institution and will provide results based on the long-term academic success of the student-parent. The Department will aggregate the data provided in the annual performance reports from all grantees to determine the accomplishment level. The CCAMPIS reporting data collection is moving towards a semester-to-semester cohort model. This will not increase public reporting burden as CCAMPIS grantees are gathering and maintaining the data needed in completing and reviewing the collection of information currently.

6. Continuation Awards: In making a continuation grant under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Tiwanda Burse,
Deputy Assistant Secretary for Management & Planning, Office of Postsecondary Education. Delegated authority to perform functions and duties of the Assistant Secretary for the Office of Postsecondary Education.

[FR Doc. 2021-04393 Filed 3-2-21; 8:45 am]

BILLING CODE 4000-01-P